DEPARTMENT OF COMMERCE

National Oceanic and Atmospheric Administration

50 CFR Part 648

[Docket No. 130903775-4276-02]

RIN 0648-XD205

Fisheries of the Northeastern United States; Atlantic Mackerel, Squid, and Butterfish Fisheries; Phase 1 Reopening for the Directed Butterfish Fishery

AGENCY: National Marine Fisheries Service (NMFS), National Oceanic and Atmospheric Administration (NOAA), Commerce.

ACTION: Temporary rule.

SUMMARY: NMFS announces that phase 1 of the directed butterfish fishery will be reopened to provide the opportunity for vessels targeting butterfish to fish with a higher possession limit. Vessels issued a longfin squid/butterfish moratorium permit may fish for, catch, possess, or land unlimited amounts of butterfish when using greater than or equal to 3-inch (76-mm) mesh. The possession limit remains 2,500-lb (1.13 mt) per trip or calendar day for vessels fishing less than 3-inch (76-mm) mesh. The incidental possession limit also remains unchanged at 600 lb (0.27 mt).

DATES: Effective April 4, 2014, through December 31, 2014.

FOR FURTHER INFORMATION CONTACT: Aja Szumylo, Fishery Policy Analyst, 978-281-9195, Fax 978-281-9135.

SUPPLEMENTARY INFORMATION: Regulations at 50 CFR part 648 govern the butterfish fishery. The regulations require specifications for maximum sustainable yield, initial optimum yield, allowable biological catch, annual catch limit (ACL), domestic annual harvest (DAH), domestic annual processing (DAP), joint venture processing, and total allowable levels of foreign fishing for the species managed under the Atlantic Mackerel, Squid, and Butterfish (MSB) Fishery Management Plan (FMP). The procedures for setting the annual initial specifications are described in § 648.22.

Due to the increase in the butterfish DAH from previous years, the 2013 MSB specifications implemented a 3-phase butterfish management system to allow for maximum utilization of the butterfish resource without exceeding the stock-wide ACL. In phase 1, there is no trip limit for vessels issued longfin squid/butterfish moratorium permits using mesh greater than or equal to 3 inches (76 mm), a 2,500-lb (1.13-mt) trip limit for longfin squid/butterfish moratorium permits using mesh less than 3 inches (76 mm), and a trip limit of 600 lb (0.27 mt) for vessels issued squid/butterfish incidental catch permits. Once butterfish harvest reaches the trip hold reduction threshold to move from phase 1 to phase 2, the trip limit for longfin squid/butterfish moratorium permit holders will be reduced while in phase 2 to 5,000 lb (2.27 mt) for vessels using greater than or equal to 3-inch (7.62 cm) mesh. The limit remains unchanged at 2,500-lb (1.13 mt) per trip or calendar day for vessels issued a Federal longfin squid/butterfish moratorium permits and fishing with less than 3-inch (76-mm); and the incidental limit remains at 600 lb (0.27 mt). When we project butterfish harvest to reach the trip hold reduction thresholds to move from phase 2 to phase 3, the trip limit for all longfin squid/butterfish moratorium permit holders will be reduced while in phase 3 to 500 lb (0.23 mt) to avoid quota overages. For phases 2 and 3, the quota thresholds to reduce the trip limits will vary bimonthly throughout the year.

The 2013 MSB specifications set the 2013 butterfish DAH at 2,570 mt (77 FR 3346, January 16, 2013). The regulations at § 648.22(d) state that, if annual specifications for the MSB fisheries are not published in the Federal Register prior to the start of the fishing year (January 1), the previous year's annual specifications, will remain in effect. On March 18, 2014 (79 FR 15046), NMFS announced a trip limit reduction for the butterfish fishery based on the phase 2 trip limit reduction threshold for the 2013 butterfish quota.

The final rule for 2014 MSB specifications and management measures is published elsewhere in this issue. The 2014 butterfish specifications were implemented upon publication of that action, and immediately superseded the 2013 specifications. The 2014 butterfish specifications increase the butterfish quota by 630 mt. Relative to the increased 2014 butterfish quota, only 45 percent of the butterfish quota has been harvested. Because the 2014 March/April phase 2 trip limit reduction threshold for butterfish is 57 percent, effective April 4, 2014, the butterfish fishery can return to phase 1. Longfin squid/butterfish moratorium permit holders using mesh sizes greater than 3 inches (76 mm) may fish for, catch, possess, or land unlimited amounts of butterfish until the phase 2 trip limit reduction threshold is triggered. The trip limits for vessels issued longfin squid/butterfish moratorium permits fishing with mesh less than 3 inches (76 mm) will remain at 2,500 lb (1.13 mt) of butterfish per trip and the incidental trip limit will remain at 600 lb (0.27 mt). When butterfish harvest is projected to reach the phase 2 trip limit reduction threshold specified for 2014, butterfish trip limits for longfin squid/butterfish moratorium permit holders will be reduced to 5,000 lb (2.27 mt) for vessels fishing with mesh sizes greater than 3 inches (76 mm), through a subsequent action in the Federal Register.

Classification

This action is required by 50 CFR part 648 and is exempt from review under Executive Order 12866.

The Assistant Administrator for Fisheries, NOAA (AA), finds good cause pursuant to 5 U.S.C. 553(b)(B) to waive prior notice and the opportunity for public comment because it would be contrary to the public interest. This action reopens the phase 1 of the directed butterfish fishery until the 2014 phase 2 trip limit reduction threshold is reached. If implementation of this reopening was delayed to solicit prior public comment, vessels would be prevented from fishing with a higher possession limit and may not be able to fully harvest the 2014 butterfish quota, thereby undermining the conservation objectives of the FMP. The AA further finds, pursuant to 5 U.S.C. 553(d)(3), good cause to waive the 30-day delayed effectiveness period for the reason stated above.

Authority: 16 U.S.C. 1801 et seq.

Dated: April 1, 2014.
James P. Burgess,
Acting Director, Office of Sustainable Fisheries, National Marine Fisheries Service.

[FR Doc. 2014-07612 Filed 4-3-14; 8:45 am]

BILLING CODE 3510-22-P